SECURITIES AND EXCHANGE COMMISSION

[File No. 500-1]

New Generation Biofuels Holdings, Inc.; Order of Suspension of Trading

December 21, 2012.

It appears to the Securities and Exchange Commission that there is a lack of current and accurate information concerning the securities of New Generation Biofuels Holdings, Inc. because it has not filed any periodic reports since the period ended June 30, 2011.

The Commission is of the opinion that the public interest and the protection of investors require a suspension of trading in the securities of the above-listed company.

Therefore, it is ordered, pursuant to Section 12(k) of the Securities Exchange Act of 1934, that trading in the securities of the above-listed company is suspended for the period from 9:30 a.m. EST, on December 21, 2012 through 11:59 p.m. EST, on January 7, 2013.

By the Commission.
Jill M. Peterson,
Assistant Secretary.

[FR Doc. 2012-31151 Filed 12-21-12; 4:15 pm]

BILLING CODE 8011-01-P